SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: May 1-31, 2014.

ADDRESSES: Susquehanna River Basin Commission, 4423 North Front Street, Harrisburg, PA 17110-1788.

FOR FURTHER INFORMATION CONTACT: Richard A. Cairo, General Counsel, telephone: (717) 238-0423, ext. 1306; fax: (717) 238-2436; email: rcairo@srbc.net. Regular mail inquiries may be sent to the above address.

SUPPLEMENTARY INFORMATION: This notice lists the projects, described below, receiving approval for the consumptive use of water pursuant to the Commission's approval by rule process set forth in 18 CFR 806.22(f) for the time period specified above:

Approvals By Rule Issued Under 18 CFR 806.22(f)

1. Citrus Energy Corporation, Pad ID: Procter and Gamble Mehoopany Plant 1V, ABR-20091014.R1, Washington Township, Wyoming County, Pa.; Consumptive Use of Up to 5.000 mgd; Approval Date: May 1, 2014.

2. Anadarko E&P Onshore LLC, Pad ID: C.O.P. TRACT 343 PAD C, ABR-20090908.R1, Noyes Township, Clinton County, Pa.; Consumptive Use of Up to 5.000 mgd; Approval Date: May 6, 2014.

3. Anadarko E&P Onshore LLC, Pad ID: COP Tr 244 #1000H, ABR-20090927.R1, Rush Township, Centre County, Pa.; Consumptive Use of Up to 5.000 mgd; Approval Date: May 6, 2014.

4. Anadarko E&P Onshore LLC, Pad ID: COP Tr 244 #1001H & #1002H, ABR-20090928.R1, Rush Township, Centre County, Pa.; Consumptive Use of Up to 5.000 mgd; Approval Date: May 6, 2014.

5. Seneca Resources Corporation, Pad ID: DCNR 595 Pad A, ABR-201405001, Covington Township, Tioga County, Pa.; Consumptive Use of Up to 4.000 mgd; Approval Date: May 12, 2014.

6. Chief Oil & Gas LLC, Pad ID: Blanchard Drilling Pad, ABR-201405002, McNett Township, Lycoming County, Pa.; Consumptive Use of Up to 2.500 mgd; Approval Date: May 12, 2014.

7. Range Resources—Appalachia, LLC, Pad ID: Cornwall B Unit, ABR-201405003, Lewis Township, Lycoming County, Pa.; Consumptive Use of Up to 5.000 mgd; Approval Date: May 12, 2014.

8. WPX Energy Appalachia, LLC, Pad ID: Five E's FLP Pad Site, ABR-20090801.R1, Middletown Township, Susquehanna County, Pa.; Consumptive Use of Up to 3.000 mgd; Approval Date: May 13, 2014.

9. WPX Energy Appalachia, LLC, Pad ID: Markovitch Pad Site, ABR-20090828.R1, Bridgewater Township, Susquehanna County, Pa.; Consumptive Use of Up to 3.999 mgd; Approval Date: May 13, 2014.

10. Inflection Energy (PA), LLC, Pad ID: TLC Pad, ABR-201405004, Eldred Township, Lycoming County, Pa.; Consumptive Use of Up to 4.000 mgd; Approval Date: May 13, 2014.

11. Inflection Energy (PA), LLC, Pad ID: Griggs Pad, ABR-201405005, Eldred and Loyalsock Townships, Lycoming County, Pa.; Consumptive Use of Up to 4.000 mgd; Approval Date: May 13, 2014.

12. Southwestern Energy Production Company, Pad ID: Lepley Pad—TI-04, ABR-201405006, Liberty Township, Tioga County, Pa.; Consumptive Use of Up to 4.999 mgd; Approval Date: May 13, 2014.

13. Chesapeake Appalachia, LLC, Pad ID: Dr. Marone, ABR-201405007, Washington Township, Wyoming County, Pa.; Consumptive Use of Up to 7.500 mgd; Approval Date: May 13, 2014.

14. WPX Energy Appalachia, LLC, Pad ID: Carty Pad Site, ABR-20090916.R1, Liberty Township, Susquehanna County, Pa.; Consumptive Use of Up to 3.999 mgd; Approval Date: May 15, 2014.

15. Chief Oil & Gas LLC, Pad ID: Teel Unit #1H, ABR-20091115.R1, Springville Township, Susquehanna County, Pa.; Consumptive Use of Up to 5.000 mgd; Approval Date: May 15, 2014.

16. Cabot Oil & Gas Corporation, Pad ID: PlonskiI P1, ABR-201405008, Gibson Township, Susquehanna County, Pa.; Consumptive Use of Up to 4.250 mgd; Approval Date: May 23, 2014.

17. Cabot Oil & Gas Corporation, Pad ID: Friedland Farms P1, ABR-201405009, Lenox Township, Susquehanna County, Pa.; Consumptive Use of Up to 4.250 mgd; Approval Date: May 23, 2014.

18. Chief Oil & Gas LLC, Pad ID: Teel Unit Drilling Pad #2H, ABR-20091204.R1, Springville Township, Susquehanna County, Pa.; Consumptive Use of Up to 2.000 mgd; Approval Date: May 27, 2014.

19. Chief Oil & Gas LLC, Pad ID: Teel Unit Drilling Pad #3H, ABR-20091205.R1, Springville Township, Susquehanna County, Pa.; Consumptive Use of Up to 2.000 mgd; Approval Date: May 27, 2014.

20. Cabot Oil & Gas Corporation, Pad ID: ButlerL P1, ABR-201405010, Lathrop Township, Susquehanna County, Pa.; Consumptive Use of Up to 4.250 mgd; Approval Date: May 27, 2014.

Authority: Pub. L. 91-575, 84 Stat. 1509 et seq., 18 CFR Parts 806, 807, and 808.

Dated: July 2, 2014.
Stephanie L. Richardson,
Secretary to the Commission.

[FR Doc. 2014-16250 Filed 7-10-14; 8:45 am]

BILLING CODE 7040-01-P